DEPARTMENT OF ENERGY

Federal Energy Regulatory Commission

[Docket No. ER01-1178-003, et al.]

Sempra Energy Resources, et al.; Electric Rate and Corporate Filings

April 14, 2004.

The following filings have been made with the Commission. The filings are listed in ascending order within each docket classification.

1. Sempra Energy Resources; Sempra Energy Solutions

[Docket No. ER01-1178-003 and Docket No. ER00-3444-003]

Take notice that on April 9, 2004, Sempra Energy Resources and Sempra Energy Solutions submitted an updated market power analysis and tendered for filing amendments to their respective market-based rate tariffs in compliance with the Commission's order issued on November 17, 2003 in Docket No. EL01-118-000.

Comment Date: April 30, 2004.

2. Commonwealth Edison Company

[Docket No. ER03-1335-002]

Take notice that on April 9, 2004, Commonwealth Edison Company and Commonwealth Edison Company of Indiana, Inc. (ComEd) tendered for filing with the Commission in accordance with a proposed change in the effective date of the rates for transmission and scheduling services. The Commission issued an order on November 10, 2003, in Docket No. ER03-1335, conditionally accepting ComEd's September 12, 2003 rate filing and authorizing an April 12, 2004 effective date, 105 FERC 61,186 (2003). ComEd) states that due to billing and settlement difficulties associated with rate changes that occur on a day other than the 1st day of a calendar month, ComEd desires to implement the Phase I rate change on May 1, 2004. Accordingly, an effective date of May 1, 2004 is requested.

ComEd states that copies of the filing were served on parties to the service list in Docket No. ER03-1335-000.

Comment Date: April 30, 2004.

3. PJM Interconnection, L.L.C.

[Docket Nos. ER04-521-001]

Take notice that on April 13, 2004, PJM Interconnection L.L.C. (PJM) filed a letter stating that, starting June 1, 2004, the west to east capacity on the pathway that will be used for the single dispatch of the combined Commonwealth Edison Company (ComEd) and PJM region will be reduced from 500 MW to 300 MW. PJM notes that ComEd is continuing efforts to procure additional west to east capacity, and that the east to west capacity will remain 500 MW.

PJM states that a copy of this filing has been served upon all parties in Docket Nos. ER04-375, ER04-521 and ER04-603.

Comment Date: April 20, 2004.

4. Tenaska Virginia Partners, L.P.

[Docket No. ER04-680-001]

Take notice that on April 9, 2004, Tenaska Virginia Partners, L.P., (Tenaska Virginia) submitted for filing, pursuant to section 205 of the Federal Power Act (16 U.S.C. 824d), and Part 35 of the Commission's regulations (18 CFR Part. 35), an amendment to its March 26, 2004 filing of its rate schedule for reactive power to be provided initially to the Virginia Electric and Power Company d/b/a Dominion Virginia Power (VEPCO) transmission system, and upon VEPCO and Tenaska Virginia joining the PJM Interconnection, L.L.C. (PJM), to the PJM transmission system. Tenaska Virginia requests an effective date of May 1, 2004.

Comment Date: April 19, 2004.

5. PJM Interconnection, L.L.C.

[Docket No. ER04-710-001]

Take notice that on April 9, 2004, PJM Interconnection, L.L.C. (PJM) submitted for filing a substitute executed interconnection service agreement (ISA) among PJM, PPL Susquehanna, L.L.C. and PPL Electric Utilities Corporation. PJM requests waiver of the Commission's notice requirements to allow a March 4, 2004 effective date for the substitute ISA.

PJM states that copies of this filing were served upon persons designated on the official service list compiled by the Secretary in this proceeding, the parties to the agreements, and the state regulatory commissions within the PJM region.

Comment Date: April 30, 2004.

6. Southern California Edison Company

[Docket No. ER04-724-000]

Take notice that on April 9, 2004, Southern California Edison Company (SCE), pursuant to section 35.13 of the Commission's Regulations under the Federal Power Act (18 CFR 35.13), tendered for filing the Interconnection Facilities Agreement (Interconnection Agreement) and the Service Agreement for Wholesale Distribution Service (Service Agreement) between SCE and FPL Energy Green Power Wind, LLC (FPLE Green Power). SCE requests the Interconnection Agreement and the Service Agreement become effective on April 10, 2004.

SCE states that copies of this filing were served upon the Public Utilities Commission of the State of California and FPLE Green Power.

Comment Date: April 30, 2004.

7. PECO Energy Company

[Docket No. ER04-726-000]

Take notice that on April 9, 2004, PECO Energy Company (PECO), pursuant to section 205 of the Federal Power Act, 16 U.S.C. 824d, and Part 35 of the Rules and Regulations of the Commission, submitted for filing First Revised Sheet Nos. 64—68 Superceding Original Sheet Nos. 64—68 to the Interconnection Agreement between PECO and Exelon Generation Company (Exelon Generation) for the Limerick Generation Station designated as First Revised Rate Schedule FERC No. 131.

Comment Date: April 30, 2004.

8. Jersey Central Power and Light Company

[Docket No. ER04-727-000]

Take notice that on April 9, 2004, Jersey Central Power and Light Company, a FirstEnergy Company, (Jersey Central) pursuant to section 205 of the Federal Power Act and Part 35 of the Commission's regulations (18 CFR Part 35), submitted a revised Generation Facility Transmission Interconnection Agreement between Jersey Central and Ocean Peaking Power, L.P. (OPP). Jersey Central states that the revised Agreement has been designated First Revised Service Agreement No. 604 under the PJM Interconnection L.L.C.'s Open Access Transmission Tariff.

Jersey Central states that copies of this filing have been served on regulators in New Jersey, OPP and PJM.

Comment Date: April 30, 2004.

9. Boston Edison Company

[Docket No. ES04-20-000]

Take notice that on April 9, 2004, Boston Edison Company submitted an application pursuant to section 204 of the Federal Power Act requesting that the Commission authorize the issuance of short-term debt securities in amount up to $450 million.

Comment Date: May 4, 2004.

10. Cambridge Electric Light Company

[Docket No. ES04-21-000]

Take notice that on April 9, 2004, Cambridge Electric Light Company submitted an application pursuant to section 204 of the Federal Power Act requesting that the Commission authorize the issuance of short-term debt securities in amount up to $60 million.

Comment Date: May 4, 2004.

11. Commonwealth Electric Company

[Docket No. ES04-22-000]

Take notice that on April 9, 2004, Commonwealth Electric Company submitted an application pursuant to section 204 of the Federal Power Act requesting that the Commission authorize the issuance of short-term debt securities in amount up to $125 million.

Comment Date: May 4, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-904 Filed 4-21-04; 8:45 a.m.]

BILLING CODE 6717-01-P